DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations notice is hereby given that the Office of Hazardous Materials Safety has received the application described herein.

DATES: Comments must be received on or before October 16, 2017.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on August 31, 2017.
Donald Burger,
Chief, Office of the Special Permits and Approvals.

Application No. | Docket No. | Applicant | Regulation(s) affected | Nature of the special permits thereof
SPECIAL PERMITS DATA
5749-M |  | Chemours Company FC LLC | 173.315(a) | To modify the special permit to authorize the modification of an MC-331 cargo tank by adding a rupture disk under the relief valve on the liquid load line.
9168-M |  | Berlin Packaging L.L.C | 173.13(a), 173.13(b), 173.13(c)(1)(ii), 173.13(c)(1)(iv), 173.13(c)(2)(iii) | To modify the special permit to remove the requirement to use an intermediate metal can for inner receptacles containing solid hazardous materials.
10915-M |  | Luxfer Inc | 205, 3, 302A, 304A | To modify the special permit to authorize the removal of liner coatings and the gunfire test for cylinders less than .5 liters water capacity.
12187-M |  | ITW Sexton Inc | 173.304a(a) | To modify the special permit to authorize and additional 2.2 gas.
13220-M |  | Entegris, Inc | 173.302(a), 173.302c(a) | To modify the special permit to remove unauthorized hazmat due to new regulatory changes.
13961-M |  | 3AL Testing | 172.203(a), 172.301(c), 180.205 | To modify the special permit to remove the requirement for the six month check for gain control accuracy and to authorize a revised dome marking.
13998-M |  | 3AL Testing | 172.203(a), 172.301(c), 180.205 | To modify the special permit to remove the requirement for the six month check for gain control accuracy and to authorize a revised dome marking.
14206-M |  | Digital Wave Corporation | 180.205, 172.203(a), 172.301(c) | To modify the special permit to authorize Ultrasonic Examination of certain DOT UN refillable pressure receptacles and cylinders.
15773-M |  | Roche Molecular Systems, Inc | 173.242(e)(1) | To modify the special permit to authorize a new packaging design for transporting PG II corrosive materials.
16231-M |  | Thales Alenia Space | 172.101(j), 173.301(f), 173.302a(a)(1), 173.304a(a)(2) | To modify the special permit to authorize an additional Class 1.4S explosive.
20283-M |  | LG Chem | 172.101(j), | To modify the special permit to authorize an additional package.
20292-M |  | Nuance Systems LLC | 173.181, 173.302(a), 173.187, 173.201, 173.211 | To authorize the manufacture, marking sale and use of a non-DOT specification cylinder used to transport pyrophoric materials.
20306-M |  | Avantor Performance Materials International, Inc | 173.158(e) | To modify the special permit to authorize a change in the minimum thickness of the interior polyvinyl chloride liner coating and to authorize an additional packing for transport.
20336-M |  | Geotek Coring Inc | 173.3(d) | To modify the special permit originally from an emergency special permit to a routine special permit.
20384-N |  | Beanworthy, LLC | 173.185(f), 173.185(f)(2), 173.185(f)(3) | To authorize the manufacture, mark, sale, and use of packagings for the purpose of transporting recalled batteries for recycling/disposal.
20390-M |  | American RX Group, LLC | Parts 171-180 | To modify the special permit from an emergency special permit to a routine special permit.
20403-N |  | Daws Manufacturing Company, Inc | 177.834(h), 178.705(d), 178.811, 178.812 | To authorize the manufacture, mark, sale and use of non-DOT specification aluminum tanks with capacities not exceeding 95 gallons. Additionally, discharge of Class 3 hazardous materials from the tanks without removing them from the vehicle on which they are transported is authorized.
20414-N |  | Lockheed Martin Corporation | 172.101(j), 173.302(a) | To authorize the transportation of low production batteries aboard cargo-only aircraft.
20417-N |  | Redemption, Inc | 172.101(j), 172.301(c), 173.62(c) | To authorize the transportation in commerce of certain Class 1 explosive materials which are forbidden for transportation by air, to be transported by cargo aircraft within the State of Alaska when other means of transportation are impracticable or not available.
20422-N |  | Sportsman's Air Service, Inc | 172.101(j), 173.242, 175.310(c)(1)(i)(iii) | To authorize the transportation in commerce of certain Class 3 liquid fuels contained in non-DOT specification packaging of up to 250 gallon capacity by cargo aircraft within and to remote areas in Alaska where there is no other practical alternative to air shipments.
20426-N |  | Enersys Advanced Systems Inc | 173.185(a) | To authorize the transportation in commerce of lithium metal cells that are not of a type proven to meet the requirements of the UN Manual of Tests and Criteria.
20429-N |  | Reclamation Technologies, Inc | 173.301(a)(1), 173.304(a), 173.309 | To authorize the transportation in commerce of non-DOT specification cylinders via contract or dedicated carrier.
20433-N |  | Brammo, Inc | 172.101(j), 173.185(a) | To authorize the transportation in commerce of prototype and low production lithium ion batteries in excess of 35 kg by cargo-only aircraft.
20435-N |  | Atieva USA Inc | 172.101(j), 173.185(a) | To authorize the transportation in commerce of low production lithium ion batteries in excess of 35 kg by cargo-only aircraft.
20452-N |  | Xalt Energy MI, LLC | 172.101(j) | To authorize the transportation in commerce of lithium ion batteries exceeding 35 kg net weight by cargo-only aircraft.
20463-N |  | Aerojet Rocketdyne, Inc | 172.320(a), 173.56(b), 173.51(a) | To authorize the transportation in commerce of subassembly components of previously approved rocket motors without individual EX classification approvals.
20471-N |  | Lone Star Specialties LLC | 173.213(c) | To authorize the transportation in commerce of flaked coal tar pitch in non-UN certified polypropylene bags.
20477-N |  | Lithionics Battery, LLC | 172.101(j) | To authorize the transportation in commerce of lithium ion batteries exceeding 35 kg by cargo-only aircraft.
20479-N |  | Mcabee, Thomas O | 171.1, 180.1 | To authorize the manufacture, mark, sale and use of non-DOT specification packaging for the transportation in commerce of certain materials authorized to be disposed of under 21 CFR part 1317, subpart B.
20483-N |  | Qal-Tek Associates LLC | 173.431(a) | To authorize the transportation in commerce of normal form radioactive materials in Type A packagings when the activity limit exceeds the A2 value.
20496-N |  | Kalitta Air, L.L.C | 175.30(a)(1), 173.27(b)(2), 173.27(b)(3) | To authorize the transportation in commerce of explosives by cargo aircraft which is forbidden in the regulations.
20497-N |  | Kalitta Air, L.L.C | 175.30(a)(1), 173.27(b)(2), 173.27(b)(3) | To authorize the transportation of explosives by cargo aircraft which is forbidden in the regulations.
20499-N |  | Med-Turn, Inc | Parts 171-180 | To authorize the manufacture, mark, sale and use of non-DOT specification packaging for the transportation in commerce of certain materials authorized to be disposed of under 21 CFR part 1317, subpart B.
20500-N |  | California Department of Toxic Substances Control |  | To authorize the transportation in commerce of hazardous materials used to support the recovery and relief operations from and within the California fire disaster areas.

[FR Doc. 2017-19344 Filed 9-13-17; 8:45 am]

BILLING CODE 4909-60-P